DEPARTMENT OF LABOR

Employment and Training Administration

[TA-W-65,433]

American Racing Equipment, LLC, Denver, CO; Notice of Affirmative Determination Regarding Application for Reconsideration

By application dated April 25, 2009, the petitioner requested administrative reconsideration of the negative determination regarding workers' eligibility to apply for Trade Adjustment Assistance (TAA) and Alternative Trade Adjustment Assistance (ATAA) applicable to workers and former workers of the subject firm. The determination was issued on April 6, 2009. The Notice of Determination will be soon published in the Federal Register.

The initial investigation resulted in a negative determination based on the finding that imports of two-piece automotive wheels did not contribute importantly to worker separations at the subject firm. The investigation revealed that the subject firm did not shift production of two-piece automotive wheels to a foreign country during the relevant period.

In the request for reconsideration, the petitioner alleged that the workers of the subject also supported production of one piece and cast wheels. The petitioner also alleged that the subject firm shifted production to China and that there was an increase in imports of one piece and cast wheels from China.

The Department carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 11th day of May 2009.
Elliott S. Kushner,
Certifying Officer, Division of Trade Adjustment Assistance.

[FR Doc. E9-14072 Filed 6-15-09; 8:45 am]

BILLING CODE 4510-FN-P